DEPARTMENT OF AGRICULTURE

Forest Service

Eastern Arizona Counties Resource Advisory Committee

AGENCY: Forest Service, USDA.

ACTION: Notice of meeting.

SUMMARY: The Eastern Arizona Counties Resources Advisory Committee will meet in Show Low, Arizona. The purpose of the meeting is to evaluate project proposals for possible funding in accordance with Public Law 106-393 (the Secure Rural Schools and Community Self-Determination Act).

DATES: The meeting will be held January 23, 2004, starting at 12:30 p.m.

ADDRESSES: The meeting will be held in the conference room at the Holiday Inn Express, 151 West Deuce of Clubs, Show Low, Arizona 85901. Send written comments to Robert Dyson, Eastern Arizona Counties Resource Advisory Committee, c/o Forest Service, USDA, P.O. Box 640, Springerville, Arizona 85938 or electronically to rdyson@fs.fed.us.

FOR FURTHER INFORMATION CONTACT: Robert Dyson, Public Affairs Officer, Apache-Sitgreaves National Forests, (928) 333-4301.

SUPPLEMENTARY INFORMATION: The meeting is open to the public. Committee discussion is limited to Forest Service staff, project proponents, and Committee members. However, persons who wish to bring Public Law 106-393 related matters to the attention of the Committee may file written statements with the Committee staff before or after the meeting. Public input sessions will be provided and individuals who made written requests by January 1, 2004, will have the opportunity to address the Committee at those sessions.

Dated: November 26, 2003.
Elaine J. Zieroth,
Forest Supervisor, Apache-Sitgreaves National Forests.

[FR Doc. 03-30179 Filed 12-3-03; 8:45 am]

BILLING CODE 3410-11-M